NUCLEAR REGULATORY COMMISSION

[NRC-2010-0097]

Draft Regulatory Guide: Issuance, Availability

AGENCY: Nuclear Regulatory Commission.

ACTION: Notice of issuance and availability of draft regulatory guide, DG-1242, “Service Level I, II, and III Protective Coatings Applied To Nuclear Power Plants.”

FOR FURTHER INFORMATION CONTACT: Bruce P. Lin, U.S. Nuclear Regulatory Commission, Washington, DC 20555-0001, telephone: (301) 251-7653 or e-mail Bruce.Lin@nrc.gov.

SUPPLEMENTARY INFORMATION:

I. Introduction

The U.S. Nuclear Regulatory Commission (NRC) is issuing for public comment a draft guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), entitled, “Service Level I, II, and III Protective Coatings Applied to Nuclear Power Plants” is temporarily identified by its task number, DG-1242, which should be mentioned in all related correspondence. DG-1242 is proposed Revision 2 of Regulatory Guide 1.54, dated July 2000.

Protective coatings have been used extensively in nuclear power plants (NPPs) to protect the surfaces of facilities and equipment from corrosion and contamination from radionuclides and for wear protection during plant operation and maintenance activities. For plants that have a design basis that includes a commitment to RG 1.54, “Quality Assurance Requirements for Protective Coatings Applied to Water-Cooled Nuclear Power Plants,” issued June 1973, the regulations cited above require that protective coatings be qualified and capable of surviving a design-basis accident without adversely affecting safety-related structures, systems, and components needed to mitigate the accident.

The NRC issued RG 1.54 to describe an acceptable method for complying with NRC quality assurance requirements for protective coatings applied to ferritic steels, stainless steel, zinc-coated (galvanized) steel, concrete, or masonry surfaces of water-cooled NPPs. The presumption was that protective coatings that met these guidelines would not degrade over the design life of the plant. However, operating history has shown that undesirable degradation, detachment, and other types of failures of coatings have occurred, as described in Generic Letter 98-04, “Potential for Degradation of the Emergency Core Cooling System and the Containment Spray System after a Loss-of-Coolant Accident because of Construction and Protective Coating Deficiencies and Foreign Material in Containment,” dated July 14, 1998. Detached coatings from the substrate that are transported to emergency core cooling system intake structures may make those systems unable to satisfy the requirement in 10 CFR 50.46(b)(5) to provide long-term cooling.

II. Further Information

The NRC staff is soliciting comments on DG-1242. Comments may be accompanied by relevant information or supporting data and should mention DG-1242 in the subject line. Comments submitted in writing or in electronic form will be made available to the public in their entirety through the NRC's Agencywide Documents Access and Management System (ADAMS).

ADDRESSES: You may submit comments by any one of the following methods. Please include Docket ID NRC-2010-0097 in the subject line of your comments. Comments submitted in writing or in electronic form will be posted on the NRC Web site and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2010-0097. Address questions about NRC dockets to Carol Gallagher 301-492-3668; e-mail Carol.Gallagher@nrc.gov.

Mail comments to: Michael T. Lesar, Chief, Rulemaking and Directives Branch (RDB), Office of Administration, Mail Stop: TWB-05-B01M, U.S. Nuclear Regulatory Commission, Washington, DC 20555-0001, or by fax to RDB at (301) 492-3446.

You can access publicly available documents related to this notice using the following methods:

NRC's Public Document Room (PDR): The public may examine and have copied for a fee publicly available documents at the NRC's PDR, Room O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. DG-1242 is available electronically under ADAMS Accession Number ML093410510. In addition, electronic copies of DG-1242 are available through the NRC's public Web site under Draft Regulatory Guides in the “Regulatory Guides” collection of the NRC's Electronic Reading Room at http://www.nrc.gov/reading-rm/doc-collections/.

Federal Rulemaking Web site: Public comments and supporting materials related to this notice can be found at http://www.regulations.gov by searching on Docket ID: NRC-2010-0097.

Comments would be most helpful if received by May 12, 2010. Comments received after that date will be considered if it is practical to do so, but the NRC is able to ensure consideration only for comments received on or before this date. Although a time limit is given, comments and suggestions in connection with items for inclusion in guides currently being developed or improvements in all published guides are encouraged at any time.

Regulatory guides are not copyrighted, and Commission approval is not required to reproduce them.

Dated at Rockville, Maryland, this 4th day of March, 2010.
For the Nuclear Regulatory Commission.
Andrea D. Valentin,
Chief, Regulatory Guide Development Branch, Division of Engineering, Office of Nuclear Regulatory Research.

[FR Doc. 2010-5225 Filed 3-10-10; 8:45 am]

BILLING CODE 7590-01-P